DEPARTMENT OF COMMERCE

National Oceanic and Atmospheric Administration

[RTID 0648-XD396]

Fall Meeting of the Advisory Committee to the U.S. Section of the International Commission for the Conservation of Atlantic Tunas

AGENCY: National Marine Fisheries Service (NMFS), National Oceanic and Atmospheric Administration (NOAA), Commerce.

ACTION: Notice of meeting.

SUMMARY: In preparation for the 2023 International Commission for the Conservation of Atlantic Tunas (ICCAT) meeting, the Advisory Committee to the U.S. Section to ICCAT is announcing the convening of its fall meeting.

DATES: The meeting will be held on October 25-26, 2023. There will be an open session on Wednesday, October 25, 2023, from 9 a.m. through approximately 12 p.m. The remainder of the meeting will be closed to the public and is expected to end by 12 p.m. on October 26. Interested members of the public may present their views during the public comment session on October 25, 2023, or submit written comments by October 18, 2023 (see ADDRESSES).

ADDRESSES: The meeting will be held at the DoubleTree by Hilton Silver Spring DC North, 8777 Georgia Ave., Silver Spring, MD. Written comments should be sent via email to bryan.keller@noaa.gov. Comments may also be sent via mail to Bryan Keller at NMFS, Office of International Affairs, Trade, and Commerce, 1315 East-West Highway, Silver Spring, MD 20910.

FOR FURTHER INFORMATION CONTACT: Bryan Keller, Office of International Affairs, Trade, and Commerce, (301) 427-7725 or at bryan.keller@noaa.gov.

SUPPLEMENTARY INFORMATION: The Advisory Committee to the U.S. Section to ICCAT will meet October 25-26, 2023, first in an open session to consider information on the status of Atlantic highly migratory species and other scientific matters and then in a closed session to discuss sensitive matters related to their conservation and management. The open session will be from 9 a.m. to 12 p.m. on October 25, 2023, including an opportunity for public comment beginning at approximately 11:30 a.m. Comments may also be submitted in writing for the Advisory Committee's consideration. Interested members of the public can submit comments by mail or email; use of email is encouraged. All written comments must be received by October 18, 2023 (see ADDRESSES).

NMFS expects members of the public to conduct themselves appropriately at the open session of the Advisory Committee meeting. At the beginning of the public comment session, an explanation of the ground rules will be provided (e.g., alcohol in the meeting room is prohibited, speakers will be called to give their comments in the order in which they registered to speak, each speaker will have an equal amount of time to speak and speakers should not interrupt one another). The session will be structured so that all attending members of the public are able to comment, if they so choose, regardless of the degree of controversy of the subject(s). Those not respecting the ground rules will be asked to leave the meeting.

After the open session, the Advisory Committee will meet in closed session to discuss sensitive information relating to upcoming international negotiations on the conservation and management of Atlantic highly migratory species and related matters.

Special Accommodations

The meeting location is physically accessible to people with disabilities. Requests for sign language interpretation or other auxiliary aids should be directed to Bryan Keller at bryan.keller@noaa.gov at least 5 days prior to the meeting date.

(Authority: 16 U.S.C. 971 et seq.; 16 U.S.C. 1801 et seq.)

Dated: September 27, 2023.
Michael Brakke,
Deputy Director, Office of International Affairs, Trade, and Commerce, National Marine Fisheries Service.

[FR Doc. 2023-21709 Filed 9-29-23; 8:45 am]

BILLING CODE 3510-22-P